DEPARTMENT OF ENERGY

[OE Docket No. EA-209-B]

Application to Export Electric Energy; Cargill Power Markets, LLC

AGENCY: Office of Electricity Delivery and Energy Reliability, DOE

ACTION: Notice of application.

SUMMARY: Cargill Power Markets, LLC (CPM) has applied to renew its authority to transmit electric energy from the United States to Canada pursuant to section 202(e) of the Federal Power Act.

DATES: Comments, protests, or requests to intervene must be submitted on or before May 25, 2006.

ADDRESSES: Comments, protests, or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On June 24, 1999, the Department of Energy (DOE) issued Order No. EA-209 authorizing CPM to transmit electric energy from the United States to Canada as a power marketer. On July 3, 2001, in Order No. EA-209-A, DOE renewed the CPM authorization for a five-year term that expires on July 2, 2006.

On April 17, 2006, CPM filed an application with DOE for renewal of the export authority contained in Order No. EA-209-A for an additional five-year term. CPM proposes to export electric energy to Canada and to arrange for the delivery of those exports over the international transmission facilities presently owned by Basin Electric Power Cooperative, Bonneville Power Administration, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, Vermont Electric Power Company, Inc. and Vermont Electric Transmission Company.

Procedural Matters: Any person desiring to become a party to these proceedings or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with the DOE on or before the dates listed above.

Comments on the CPM application to export electric energy to Canada should be clearly marked with Docket EA-209-B. Additional copies are to be filed directly with Eugene J. Becker, Vice President, Cargill Power Markets, LLC, 12700 Whitewater Dr., Minnetonka, Minnesota 55343.

A final decision will be made on this application after the environmental impacts have been evaluated pursuant to the National Environmental Policy Act of 1969, and a determination is made by DOE that the proposed action will not adversely impact on the reliability of the U.S. electric power supply system.

Copies of this application will be made available, upon request, for public inspection and copying at the address provided above or you may send an e-mail to Odessa Hopkins at odessa.hopkins@hq.doe.gov.

Issued in Washington, DC, on April 20, 2006.
Anthony J. Como,
Director, Permitting and Siting, Office of Electricity Delivery and Energy Reliability.

[FR Doc. E6-6149 Filed 4-24-06; 8:45 am]

BILLING CODE 6450-01-P